NATIONAL FOUNDATION ON THE ARTS AND THE HUMANITIES

National Endowment for the Arts

Combined Arts Advisory Panel—Meeting Time Changes

Pursuant to Section 10(a)(2) of the Federal Advisory Committee Act (Public Law 92-463), as amended, notice is hereby given that the times of the previously announced June 26-28, 2001 meeting of the Combined Arts Advisory Panel, Media Arts Section (Creativity and Organizational Capacity categories) to the National Council on the Arts have been changed as follows:

• The open portion of the meeting, previously announced for 1:30 p.m. to 2:30 p.m. on Wednesday, June 27th, will be held on Thursday, June 28th from 9 a.m.-10 a.m.

The remaining portions of the meeting, from 9 a.m. to 6:30 p.m. on June 26th, from 9 a.m. to 6 p.m. on June 27th, and from 10 a.m. to 11:30 a.m. (Panel A), and from 11:30 to 5:30 p.m. (Panel B) on June 28th, will be closed.

Dated: June 11, 2001.
Kathy Plowitz-Worden,
Panel Coordinator.

[FR Doc. 01-15105 Filed 6-13-01; 8:45 am]

BILLING CODE 7537-01-P